FEDERAL ELECTION COMMISSION

Sunshine Act Meeting

Federal Register Citation Notice of Previous Announcement: 84 FR 10516

Previously Announced Time and Date of the Meeting: Tuesday, March 26, 2019 at 10:00 a.m.

Changes in the Meeting: This meeting was continued on Thursday, March 28, 2019.

This meeting also discussed:

Matters relating to internal personnel decisions, or internal rules and practices.

Information the premature disclosure of which would be likely to have a considerable adverse effect on the implementation of a proposed Commission action.

Matters concerning participation in civil actions or proceedings or arbitration.

* * * * *

Contact For More Information: Judith Ingram, Press Officer, Telephone: (202) 694-1220.

Laura E. Sinram,
Deputy Secretary of the Commission.

[FR Doc. 2019-06433 Filed 3-29-19; 11:15 am]

BILLING CODE 6715-01-P